ELECTION ASSISTANCE COMMISSION

Sunshine Act Meetings

AGENCY: U.S. Election Assistance Commission.

ACTION: Sunshine Act notice; notice of public meeting agenda

.

SUMMARY: Public Meeting: U.S. Election Assistance Commission Technical Guidelines Development Committee.

DATES: October 13, 2021 1:00 p.m.-4:00 p.m. Eastern.

ADDRESSES:

Virtual via Zoom:

The meeting is open to the public and will be livestreamed on the U.S. Election Assistance Commission YouTube Channel: https://www.youtube.com/channel/UCpN6i0g2rlF4ITWhwvBwwZw.

FOR FURTHER INFORMATION CONTACT: Jonathon Panek, Telephone: (202) 805-4613, Email: jpanek@eac.gov.

SUPPLEMENTARY INFORMATION: Purpose: In accordance with the Government in the Sunshine Act (Sunshine Act), Public Law 94-409, as amended (5 U.S.C. 552b), the U.S. Election Assistance Commission (EAC) will conduct a virtual meeting of the EAC Technical Guidelines Development Committee (TGDC) to assist the Executive Director of the Commission in the development of the Voluntary Voting System Guidelines (VVSG), with technical support provided from the National Institute of Standards and Technology (NIST), including intramural research and development in areas to support the development of the voluntary voting system guidelines, pursuant to Title 1, Part 3, Section 221 of the Help America Vote Act (HAVA).

Agenda: The EAC and TGDC members will hold a virtual meeting to discuss a few specific topics related to implementation of the VVSG 2.0 standard; the VVSG Lifecycle policy and a process to evaluate and approve protocols for End-to-End (E2E) verifiable voting systems. The agenda also includes an overview of items beyond VVSG such as the e-pollbook pilot program, election support technology, and voter registration infrastructure. There will also be an update on promoting access to voting and the status and timeline on executive order 14019 from NIST.

Background: On February 10th, 2021 the EAC Commissioners unanimously voted to adopt VVSG 2.0. This vote represents the official approval of years of work by EAC staff in conjunction with the NIST, the EAC's advisory boards, VVSG working groups, and input from the public on the content in the latest iteration of the VVSG.

To help facilitate migration to the new VVSG 2.0 standard, the EAC is currently drafting a VVSG Lifecycle policy. This policy will provide guidance on deprecation of obsolete VVSG standards, establishing a periodic review and update timeline for new standards going forward, and versioning of future standards. The EAC will be requesting feedback from the TGDC on the parameters of the policy.

The EAC and NIST are working in collaboration to establish a process to evaluate and approve protocols for End-to-End (E2E) verifiable voting systems. This is a key element in conformance to VVSG 2.0 requirements for software independence. Currently, few examples of this type of protocol exist. Guidance on establishing this process will be discussed.

The EAC will discuss recent work on developing standards for an e-pollbook evaluation pilot program and will request feedback on the feasibility of similar efforts for other types of election support technology.

NIST will present on election infrastructure work for voter registration cyber security framework profiles.

Finally, NIST will give a presentation on the status of their response to the Executive Order on Promoting Access to Voting, Section 7: Ensuring Equal Access for Voters with Disabilities.

The full agenda will be posted in advance on the EAC website: https://www.eac.gov.

Status: This meeting will be open to the public.

Nichelle Williams,
Director of Research, U.S. Election Assistance Commission.

[FR Doc. 2021-21691 Filed 9-30-21; 4:15 pm]

BILLING CODE P